DEPARTMENT OF DEFENSE

Department of the Air Force

Notice of Intent To Grant an Exclusive Patent License

AGENCY: Department of the Air Force, Department of Defense.

ACTION: Notice of Intent.

SUMMARY: Pursuant to the provisions of Part 404 of Title 37, Code of Federal Regulations, which implements Public Law 96-517, as amended; the Department of the Air Force announces its intention to grant InfraRed Imaging Systems, Inc. (INRIS), a corporation of the State of Ohio, having a place of business at 22718 Holycross Epps Road, Marysville, Ohio 43040.

DATES: The Air Force intends to grant a license for the patent and pending applications unless a written objection is received within fifteen (15) calendar days from the date of publication of this Notice.

ADDRESSES: Written objection should be sent to: Air Force Materiel Command Law Office, AFMCLO/JAZ, 2240 B Street, Rm 101, Wright-Patterson AFB, OH 45433-7109; Facsimile: (937) 255-3733.

FOR FURTHER INFORMATION CONTACT: Air Force Materiel Command Law Office, AFMCLO/JAZ, 2240 B Street, Rm 101, Wright-Patterson AFB, OH 45433-7109; Facsimile: (937) 255-3733.

SUPPLEMENTARY INFORMATION: An exclusive license in any right, title and interest of the Air Force in:

U.S. Patent No. 6,230,046, entitled “System and method for enhanced visualization of subcutaneous structures,” by Robert L. Crane, Byron P. Edmonds, Charles C. Lovett; Walter E. Johnson, claiming priority as a Continuation-In-Part filed 28 of U.S. Serial No. 08/442,041 filed 16 May 1995 (related and previously licensed);

U.S. Patent No. 7,917,193, entitled “Determining inserted catheter end location and orientation”, by Robert L. Crane;

U.S. Patent No. 8,548,572, entitled “Determining Inserted Catheter End Location and Orientation”, by Robert L. Crane;

U.S. Patent No. 8,649,848, entitled “Synchronization of Illumination Source and Sensor for Improved Visualization of Subcutaneous Structures”, by Robert L. Crane and Michael P. Buchin;

U.S. Serial No. 10/421,270, entitled “Method for Detection and Display of Extravasation and Infiltration of fluids and Substances in Subdermal of Intradermal Tissue”, by Robert L. Crane and David M. Callard;

U.S. Serial No. 14/175,156, entitled “Synchronization of Illumination Source and Sensor for Improved Visualization of Subcutaneous Structures”, by Robert L. Crane and Michael P. Buchin.

Henry Williams,
Civ, Acting Air Force Federal Register Liaison Officer.

[FR Doc. 2014-27415 Filed 11-19-14; 8:45 am]

BILLING CODE 5001-10-P